ENVIRONMENTAL PROTECTION AGENCY

[ER-FRL-8988-6]

Environmental Impact Statements; Notice of Availability

Responsible Agency: Office of Federal Activities, General Information (202) 564-1399 or http://www.epa.gov/compliance/nepa/ Weekly receipt of Environmental Impact Statements Filed 02/22/2010 Through 02/26/2010 Pursuant to 40 CFR 1506.9.

EIS No. 20100058, Final EIS, FHWA, IN, I-69 Evansville to Indianapolis, Indiana Project, Section 2, Revised to Update the Stream Impacts, Oakland City to Washington, (IN-64 to US 50), Gibson, Pike and Daviess Counties, IN, Wait Period Ends: 04/05/2010, Contact: Janice Osadczuk 317-226-7486.

EIS No. 20100059, Draft EIS, USFS, MT, East Deer Lodge Valley Landscape Restoration Management Project, To Conduct Landscape Restoration Management Activities, Pintler Ranger District, Beaverhead Deerlodge National Forest, Powell and Deerlodge Counties, MT, Comment Period Ends: 04/19/2010, Contact: Leaf Magnuson 406-683-3950.

EIS No. 20100060, Draft EIS, RUS, MN, Bemidji—Grand Rapid 230 kV Transmission Line Project, Propose to Construct and Operate, Beltrami, Hubbard, Cass, Itasca Counties, MN, Comment Period Ends: 04/19/2010, Contact: Stephanie Strength 202-720-0468.

EIS No. 20100061, Draft EIS, NOAA, 00, Amendment 17A to the Fishery Management Plan for the Snapper Grouper Fishery of the South Atlantic Region, To Implement Long-Term Management Measures Expected to End Overfishing of the Red Snapper Stock, South Atlantic Region, Comment Period Ends: 04/19/2010, Contact: Roy E. Crabtree 727-824-5305.

Amended Notices

EIS No. 20100045, Draft Supplement, BIA, CA, Campo Regional Landfill Project, Construction and Operation, Permit Lease and Sublease Use of Reservation Land, Campo Indian Reservation, San Diego County, CA, Comment Period Ends: 05/12/2010, Contact: John Rydzik 916-978-6051 Revision to FR Notice Published 02/26/2010: Extending Comment Period from 04/28/2010 to 05/12/2010.

EIS No. 20100050, Draft EIS, BLM, CA, Stirling Energy Systems (SES) Solar 2 Project, Construct and Operate, Electric-Generating Facility, Imperial Valley, Imperial County, CA, Comment Period Ends: 06/23/2010, Contact: Erin Dreyfuss 916-978-4642 Revision to FR Notice Published 02/26/2010: Extending Comment Period from 04/12/2010 to 06/23/2010.

EIS No. 20100051, Draft EIS, USFS, UT, South Unit Oil and Gas Development Project, Master Development Plan, Implementation, Duchesne/Roosevelt Ranger District, Ashley National Forest, Duchesne County, UT, Comment Period Ends: 04/12/2010, Contact: David Herron 435-781-5218 Revision to FR Notice Published 02/26/2010: Correction to Agency Code from USAF to USFS.

Dated: March 2, 2010.
Robert W. Hargrove,
Director, NEPA Compliance Division, Office of Federal Activities.

[FR Doc. 2010-4699 Filed 3-4-10; 8:45 am]

BILLING CODE 6560-50-P